DEPARTMENT OF COMMERCE

International Trade Administration

[A-570-848]

Notice of Extension of Time Limit for Final Results of New-Shipper Antidumping Reviews: Freshwater Crawfish Tail Meat From the People's Republic of China

AGENCY: Import Administration, International Trade Administration, Department of Commerce.

EFFECTIVE DATE: June 22, 2001.

FOR FURTHER INFORMATION CONTACT: Jacqueline Arrowsmith or Maureen Flannery, Import Administration, International Trade Administration, U.S. Department of Commerce, 14th Street and Constitution Avenue, NW., Washington, DC 20230; telephone: (202) 482-4052 and (202) 482-3020, respectively.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (2000).

Background

On March 29, 2000 and March 31, 2000 the Department received requests from China Kingdom Import and Export Co., Ltd.; Nantong Shengfa Frozen Food Co., Ltd.; and Weishan Fukang Foodstuffs Co., Ltd. to conduct new shipper reviews of the antidumping duty order on freshwater crawfish tail meat from the People's Republic of China. On May 25, 2000, the Department initiated these new shipper reviews covering the period September 1, 1999 through February 28, 2000 (65 FR 35046). On October 30, 2000 , the Department extended the time limit for the preliminary results of these new shipper reviews to March 21, 2000 (65 FR 64666). On March 18, 2001, the Department expanded the period of review for these new shipper reviews by one month to enable the Department to capture the entries corresponding to sales to the United States for the three respondents. See Memorandum to Barbara E. Tillman from Jacqueline Arrowsmith, “Expansion of the Period of Review of New Shipper Reviews of the Antidumping Duty Order on Freshwater Crawfish Tail Meat from the People's Republic of China,” dated March 18, 2001. This is a public memorandum, which is on file in the Central Records Unit of the main Department of Commerce building (HCHB B-099). On April 10, 2001, the Department published the Notice of Preliminary Results of Antidumping Duty New Shipper Administrative Reviews: Freshwater Crawfish Tail Meat from the People's Republic of China, 66 FR 18604 (April 10, 2001).

Extension of Time Limits for Final Results

Section 353.214(i)(1) of the Department's regulations requires the Department to make a final determination 90 days after the date on which the preliminary results in a new shipper review are issued. However, if the Secretary concludes that a new shipper review is extraordinarily complicated, the Secretary may extend the 90-day period to 150 days under § 351.214(i)(2) of the Department's regulations. We find the valuation issues in these reviews to be extraordinarily complicated, and, therefore, we are unable to complete these reviews by the scheduled deadline. Therefore, in accordance with § 351.214(i)(2) of the Department's regulations, the Department is extending the time period for issuing the final results of these new shipper reviews by 60 days until August 18, 2001.

This extension is in accordance with section 751(a)(2)(B)(iv) of the Act, as amended, and § 351.214(i)(2) of the Department's regulations.

Dated: June 15, 2001.
Edward C. Yang,
Acting Deputy Assistant Secretary, AD/CVD Enforcement Group III.

[FR Doc. 01-15740 Filed 6-21-01; 8:45 am]

BILLING CODE 3510-PS-U